NUCLEAR REGULATORY COMMISSION

[NRC-2011-0049]

Biweekly Notice; Applications and Amendments to Facility Operating Licenses Involving No Significant Hazards Considerations

I. Background

Pursuant to Section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from February 8, 2011 to February 23, 2011. The last biweekly notice was published on February 22, 2011 (76 FR 9821).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Room O1-F21, 11555 Rockville Pike (first floor), Rockville, Maryland 20852.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Room O1-F21, 11555 Rockville Pike (first floor), Rockville, Maryland 20852. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Room O1-F21, 11555 Rockville Pike (first floor), Rockville, Maryland 20852. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

R.E. Ginna Nuclear Power Plant, LLC, Docket No. 50-244, R.E. Ginna Nuclear Power Plant, Wayne County, New York

Date of amendment request: July 23, 2009.

Description of amendment request: The proposed amendment would revise several of the Required Actions in the Ginna Technical Specifications that require the suspension of operations involving positive reactivity additions or suspension of operations that would cause the reduction of the reactor coolant system boron concentration. The proposed changes are similar to those documented in Industry Technical Specification Task Force (TSTF)-286, Revision 2, Define “Operations Involving Positive Reactivity Additions.”

Basis for proposed no significant hazards consideration determination: As required by 10 CFR 50.91(a), the licensee has provided its analysis of the issue of no significant hazards consideration, which is presented below:

1. Does the proposed change involve a significant increase in the probability or consequences of an accident previously evaluated?

Response: No.

The Technical Specifications (TS) addressed in this proposed change prevent inadvertent addition of positive reactivity which could challenge the shutdown margin of the reactor core. The current TS contain rigid requirements that sometimes pose operational difficulties without significantly increasing safety. The intent of the change is to allow small, controlled, and safe insertions of positive reactivity that are now categorically prohibited to allow operational flexibility. These new activities could result in a slight change in the probability of an event occurring because reactor coolant system (RCS) manipulations that are currently prohibited would now be allowed. However, to preclude an increase in the probability of a reactivity addition accident, RCS manipulations are rigidly controlled to ensure that the reactivity remains within the required shutdown margin.

The proposed change does not permit the shutdown margin to be reduced below that required by the TS. While the proposed change will permit changes in the discretionary boron concentration above the TS requirements, this excess concentration is not credited in the Updated Final Safety Analysis Report accident analysis. Because the initial conditions assumed in the safety analysis are preserved, no increase in the consequences of an accident previously evaluated would occur. In addition, small temperature changes in the RCS impose reactivity changes by means of the moderator temperature coefficient of reactivity. These small changes are within the required shutdown margin which also bounds the reactivity addition accident analysis ensuring there is no increase in the consequence of an accident previously evaluated.

Therefore the proposed changes do not involve a significant increase in the probability or consequences of an accident previously evaluated.

2. Does the proposed change create the possibility of a new or different kind of accident from any accident previously evaluated?

Response: No.

This proposed amendment allows for minor plant operational adjustments without adversely impacting the safety analysis required shut down margin. It does not involve any change to plant equipment or the shutdown margin requirements in the TS, and no new accident precursors are created.

Therefore, the proposed change will not create the possibility of a new or different kind of accident from any accident previously evaluated.

3. Does the proposed change involve a significant reduction in a margin of safety?

Response: No.

The margin of safety in Modes 3, 4, 5, and 6 is preserved by the TS required shutdown margin which prevents a return to criticality. The proposed change will permit reductions in the discretionary shutdown margin only within the limits of the TS, thereby maintaining the margin of safety within the accident analysis.

Therefore, the proposed change will not involve a significant reduction in the margin of safety.

The NRC staff has reviewed the licensee's analysis and, based on this review, it appears that the three standards of 10 CFR 50.92(c) are satisfied. Therefore, the NRC staff proposes to determine that the amendment request involves no significant hazards consideration.

Attorney for licensee: Carey Fleming, Sr. Counsel—Nuclear Generation, Constellation Group, LLC, 750 East Pratt Street, 17th Floor, Baltimore, MD 21202.

NRC Branch Chief: Nancy L. Salgado.

Union Electric Company, Docket No. 50-483, Callaway Plant, Unit 1, Callaway County, Missouri

Date of amendment request: December 10, 2010.

Description of amendment request: The proposed amendment would modify the Callaway Plant, Unit 1, Technical Specifications (TSs) by adding new Surveillance Requirement (SR) 3.3.8.6, to TS 3.3.8, “Emergency Exhaust System (EES) Actuation Instrumentation.” The new SR would require the performance of response time testing on the portion of the EES required to isolate the normal fuel building ventilation exhaust flow path and initiate the fuel building ventilation isolation signal (FBVIS) mode of operation. The new SR 3.3.8.6 would have a note excluding the radiation monitor detectors from response time testing. In addition, the amendment would revise TS Table 3.3.8-1 to indicate that the new SR 3.3.8.6 applies to automatic actuation Function 2, “Automatic Actuation Logic and Actuation Relays (BOP ESFAS [Balance of Plant Emergency Safety Features Actuation System]),” and Function 3, “Fuel Building Exhaust Radiation—Gaseous.” Finally, there will be corresponding changes to the Final Safety Analysis Report (FSAR).

Basis for proposed no significant hazards consideration determination: As required by 10 CFR 50.91(a), the licensee has provided its analysis of the issue of no significant hazards consideration, which is presented below:

1. Does the proposed change involve a significant increase in the probability or consequences of an accident previously evaluated?

Response: No.

There are no design changes associated with the proposed change. All design, material, and construction standards that were applicable prior to this amendment request will continue to be applicable.

The proposed change will not affect accident initiators or precursors nor adversely alter the design assumptions, conditions, and configuration of the facility or the manner in which the plant is operated and maintained with respect to such initiators or precursors. There will be no change to fuel handling methods and procedures. Therefore, there will be no changes that would serve to increase the likelihood of occurrence of a fuel handling accident.

The proposed change changes a performance requirement, but it does not physically alter safety-related systems nor affect the way in which safety-related systems perform their functions.

The proposed TS change will serve to assure that the fuel building ventilation exhaust ESF [emergency safety feature] response time is tested and confirmed to be in accordance with the system design and consistent with the assumptions of the fuel building FHA [fuel handling accident] analysis (as revised). As such, the proposed change will not alter or prevent the capability of structures, systems, and components (SSCs) to perform their intended functions for mitigating the consequences of an accident and meeting applicable acceptance limits.

The proposed change will not affect the source term used in evaluating the radiological consequences of a fuel handling accident in the fuel building. However, the Fuel Building Ventilation Exhaust ESF response time has been increased to 90 seconds in recognition of the total delay times involved in the generation of a fuel building ventilation isolation signal (FBVIS) and the times required for actuated components to change state to their required safety configurations. Consequently, the fuel handling accident radiological consequences as reported in FSAR [Final Safety Analysis Report] Table 15.7-8 have increased. However, the increases are much less than the upper limit of “minimal” as defined pursuant to 10 CFR 50.59(c)(2)(iii) and NEI [Nuclear Energy Institute] 96-07 Revision 1 [“Guidelines for 10 CFR 50.59 Implementation,” November 2000]. Therefore, there is no significant increase in the calculated consequences of a postulated design basis fuel handling accident in the fuel building. The applicable radiological dose criteria of 10 CFR 100.11, 10 CFR 50 Appendix A General Design Criterion 19, and SRP [NUREG-0800, “Standard Review Plan for the Review of Safety Analysis Reports for Nuclear Power Plants: LWR [Light-Water-Reactor] Edition”] 15.7.4 will continue to be met. New SR 3.3.8.6 is added to ensure system performance consistent with the accident analyses and associated dose calculations (as revised).

Therefore, the proposed change does not involve a significant increase in the probability or consequences of an accident previously evaluated.

2. Does the proposed change create the possibility of a new or different kind of accident from any accident previously evaluated?

Response: No.

With respect to any new or different kind of accident, there are no proposed design changes nor are there any changes in the method by which any safety-related plant SSC performs its specified safety function. The proposed change will not affect the normal method of plant operation or change any operating parameters. No new accident scenarios, transient precursors, failure mechanisms, or limiting single failures will be introduced as a result of this amendment.

The proposed amendment will not alter the design or performance of the 7300 Process Protection System, Nuclear Instrumentation System, Solid State Protection System, BOP ESFAS, MSFIS [Main Steam and Feed Isolation System], or LSELS [Load Shedding and Emergency Load Sequencing] used in the plant protection systems.

The proposed change does not, therefore, create the possibility of a new or different accident from any accident previously evaluated.

3. Does the proposed change involve a significant reduction in a margin of safety?

Response: No.

There will be no effect on those plant systems necessary to assure the accomplishment of protection functions associated with reactor operation or the reactor coolant system. There will be no impact on the overpower limit, departure from nucleate boiling ratio (DNBR) limits, heat flux hot channel factor (FQ), nuclear enthalpy rise hot channel factor (FΔH), loss of coolant accident peak cladding temperature (LOCA PCT), peak local power density, or any other limit and associated margin of safety. Required shutdown margins in the COLR [Core Operating Limits Report] will not be changed.

The proposed change does not eliminate any surveillances or alter the frequency of surveillances required by the Technical Specifications. The proposed change would add a new Technical Specification Surveillance Requirement for assuring the satisfactory performance of the fuel building ventilation exhaust ESF function in response to a[n] FBVIS. The accident analysis for a fuel handling accident in the fuel building was re-performed to support the proposed Fuel Building Ventilation Exhaust ESF response time, and this reanalysis demonstrated that the acceptance criteria continue to be met with only a slight increase in radiological consequences (i.e., less than one percent).

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street, NW., Washington, DC 20037.

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available records will be accessible from the Agencywide Documents Access and Management System (ADAMS) Public Electronic Reading Room on the Internet at the NRC Web site, http://www.nrc.gov/reading-rm/adams.html. If you do not have access to ADAMS or if there are problems in accessing the documents located in ADAMS, contact the PDR Reference staff at 1-800-397-4209, 301-415-4737 or by e-mail to pdr.resource@nrc.gov.

Calvert Cliffs Nuclear Power Plant, LLC, Docket Nos. 50-317 and 50-318, Calvert Cliffs Nuclear Power Plant, Unit 1 and 2, Calvert County, Maryland

Date of application for amendments: November 23, 2009, as supplemented by letters dated January 26, April 22, July 23, August 9, October 29, November 19, December 30, 2010, and January 14, January 18, January 28, February 11, and February 15, 2011.

Brief description of amendments: The amendments revise the licensing basis and the Technical Specifications to allow the use of AREVA Advanced CE-14 HTP fuel in the Calvert Cliffs reactors. The AREVA Advanced CE-14 HTP fuel design consists of standard uranium dioxide (U02) fuel pellets with gadolinium oxide (Gd203) burnable poison and M5 cladding.

Date of issuance: February 18, 2011.

Effective date: As of the date of issuance to be implemented within 30 days.

Amendment Nos.: 297 and 273.

Renewed Facility Operating License Nos. DPR-53 and DPR-69: Amendments revised the License and Technical Specifications.

Date of initial notice in Federal Register: May 4, 2010 (75 FR 23810). The letters dated July 23, August 9, October 29, November 19, December 30, 2010, and January 14, January 18, January 28, February 11, and February 15, 2011, provided additional information that clarified the application, did not expand the scope of the application as originally noticed, and did not change the staff's original proposed no significant hazards consideration determination as published in the Federal Register.

The Commission's related evaluation of these amendments is contained in a Safety Evaluation dated February 18, 2011.

No significant hazards consideration comments received: No.

Entergy Operations, Inc., Docket No. 50-382, Waterford Steam Electric Station, Unit 3, St Charles Parish, Louisiana

Date of amendment request: February 22, 2010, as supplemented by letters dated December 3, 2010, and January 19, 2011.

Brief description of amendment: The amendment modified Technical Specification (TS) ¾.9.4, “Containment Building Penetrations,” to allow alternative means of penetration closure during core alterations or irradiated fuel movement while in refueling operations. In addition, certain improvements to this TS, as well as the elimination of TS ¾.9.9, “Containment Purge Valve Isolation System,” were made. The changes are similar to Revision 3 of NUREG-1432, “Standard Technical Specifications, Combustion Engineering Plants.”

Date of issuance: February 23, 2011.

Effective date: As of the date of issuance and shall be implemented 90 days from the date of issuance.

Amendment No.: 231.

Facility Operating License No. NPF-38: The amendment revised the Facility Operating License and Technical Specifications.

Date of initial notice in Federal Register: May 4, 2010 (75 FR 23813). The supplemental letters dated December 3, 2010, and January 19, 2011, provided additional information that clarified the application, did not expand the scope of the application as originally noticed, and did not change the staff's original proposed no significant hazards consideration determination as published in the Federal Register.

The Commission's related evaluation of the amendment is contained in a Safety Evaluation dated February 23, 2011.

No significant hazards consideration comments received: No.

Exelon Generation Company, LLC, Docket No. 50-461, Clinton Power Station, Unit 1, DeWitt County, Illinois

Date of application for amendment: February 15, 2010, as supplemented by letter dated May 21, 2010.

Brief description of amendment: The amendment relocates selected Surveillance Requirement frequencies from the Clinton Power Station, (CPS) Unit No. 1, technical specifications (TSs) to a licensee-controlled program. This change is based on the NRC-approved Industry Technical Specifications Task Force (TSTF) change TSTF-425, “Relocate Surveillance Frequencies to Licensee Control—Risk Informed Technical Specification Task Force (RITSTF) Initiative 5b,” Revision 3, (Agencywide Documents Access and Management System (ADAMS) Accession Package No. ML090850642). Furthermore, some plant-specific deviations from TSTF-425 were also incorporated into the CPS TSs.

Date of issuance: February 15, 2011.

Effective date: As of the date of issuance and shall be implemented within 120 days.

Amendment No.: 192.

Facility Operating License No. NPF-62: The amendment revised the Technical Specifications and License.

Date of initial notice in Federal Register: May 4, 2010 (75 FR 23814). The May 21, 2010, supplement contained clarifying information and did not change the NRC staff's initial proposed finding of no significant hazards consideration.

The Commission's related evaluation of the amendment is contained in a Safety Evaluation dated February 15, 2011.

No significant hazards consideration comments received: No.

Exelon Generation Company, LLC, Docket Nos. 50-254 and 50-265, Quad Cities Nuclear Power Station, Units 1 and 2, Rock Island County,

Date of amendment request: February 16, 2010, as supplemented by letter dated June 22, 2010.

Brief description of amendments: The amendments relocate selected Surveillance Requirement frequencies from the Quad Cities Nuclear Power Station Units 1 and 2 Technical Specifications (TSs) to a licensee-controlled program. This change is based on the NRC-approved Industry Technical Specifications Task Force (TSTF) change TSTF-425, “Relocate Surveillance Frequencies to Licensee Control—Risk Informed Technical Specification Task Force (RITSTF) Initiative 5b,” Revision 3, (Agencywide Documents Access and Management System (ADAMS) Accession Package No. ML090850642).

Date of issuance: February 18, 2011.

Effective date: As of the date of issuance and shall be implemented within 120 days.

Amendment Nos.: 248/243.

Renewed Facility Operating License Nos. DPR-29 and DPR-30: The amendments revised the Technical Specifications and License.

Date of initial notice in Federal Register: April 20, 2010 (75 FR 20638). The June 22, 2010, supplement, contained clarifying information and did not change the NRC staff's initial proposed finding of no significant hazards consideration.

The Commission's related evaluation of the amendments is contained in a Safety Evaluation dated February 18, 2011.

No significant hazards consideration comments received: No.

Tennessee Valley Authority, Docket No. 50-390, Watts Bar Nuclear Plant (WBN), Unit 1, Rhea County, Tennessee

Date of application for amendment: February 24, 2010, as supplemented September 20, 2010, and November 5, 2010.

Brief description of amendment: The amendment revises the Technical Specification (TS) 3.7.11, “Control Room Emergency Air Temperature Control System (CREATCS).” The amendment will only be applicable during plant modifications to upgrade the CREATCS chillers. This “one-time” TS change will be implemented during WBN Unit 1 Cycles 10 and 11 beginning March 1, 2011, and ending April 30, 2012.

Date of issuance: February 8, 2011.

Effective date: As of the date of issuance and shall be implemented no later than 90 days from date of issuance.

Amendment No.: 85.

Facility Operating License No. NPF-90: Amendment revised the License and TSs.

Date of initial notice in Federal Register: June 1, 2010 (75 FR 30447). The supplements dated September 20 and November 5, 2010, provided additional information that clarified the application, did not expand the scope of the application as originally noticed, and did not change the staff's original proposed no significant hazards consideration determination as published in the Federal Register.

The Commission's related evaluation of the amendment is contained in a Safety Evaluation dated February 8, 2011.

No significant hazards consideration comments received: No.

Dated at Rockville, Maryland, this 24th day of February 2011.
For the Nuclear Regulatory Commission.
Joseph G. Giitter,
Director, Division of Operating Reactor Licensing, Office of Nuclear Reactor Regulation.

[FR Doc. 2011-4829 Filed 3-7-11; 8:45 am]

BILLING CODE 7590-01-P